DEPARTMENT OF HEALTH AND HUMAN SERVICES

Office of the Secretary

Findings of Research Misconduct

AGENCY: Office of the Secretary, HHS.

ACTION: Notice.

SUMMARY: Notice is hereby given that the Office of Research Integrity (ORI) has taken final action in the following case.

Jennifer N. Arriaga, Universidad Central Del Caribe: Based on the findings of an investigation report by the Universidad Central Del Caribe (UCC) and additional analysis and information obtained by the Office of Research Integrity (ORI) during its oversight review, ORI found that Jennifer N. Arriaga, former Research Assistant in a clinical trial project entitled Brief Strategic Family Therapy for Adolescent Drug Abusers (BSFT) at UCC, engaged in research misconduct in research funded by National Institute on Drug Abuse (NIDA), National Institutes of Health (NIH), cooperative agreement U10 DA13720.

Specifically, ORI found that Ms. Arriaga knowingly and intentionally engaged in research misconduct by fabricating 17 interviews and falsifying 10 subject incentive receipts in the BSFT. The interview record consisted of Timeline Follow Back information, confidentiality self-report forms, and urine drug test results.

The following administrative actions have been implemented for a period of two (2) years, beginning on August 18, 2009:

(1) Ms. Arriaga is debarred from eligibility for any contracting or subcontracting with any agency of the United States Government and from eligibility or involvement in nonprocurement programs of the United States pursuant to HHS' Implementation (2 CFR part 276 et seq.) of OMB Guidelines to Agencies on Governmentwide Debarment and Suspension (2 CFR part 180); and

(2) Ms. Arriaga is prohibited from serving in any advisory capacity to the U.S. Public Health Service (PHS), including but not limited to service on any PHS advisory committee, board, and/or peer review committee, or as a consultant.

FOR FURTHER INFORMATION CONTACT: Director, Division of Investigative Oversight, Office of Research Integrity, 1101 Wootton Parkway, Suite 750, Rockville, MD 20852. (240) 453-8800.

John Dahlberg,
Director, Division of Investigative Oversight, Office of Research Integrity.

[FR Doc. E9-22118 Filed 9-14-09; 8:45 am]

BILLING CODE 4150-31-P